DEPARTMENT OF TRANSPORTATION

Federal Railroad Administration

Tier 1 Environmental Impact Statement for the Chicago, Illinois, to Omaha, Nebraska, Regional Passenger Rail System

AGENCY: Federal Railroad Administration (FRA), U.S. Department of Transportation (DOT).

ACTION: Notice of Intent to Prepare an Environmental Impact Statement (EIS).

SUMMARY: FRA is issuing this notice to advise the public that FRA with the Iowa Department of Transportation (Iowa DOT) will jointly prepare a Tier 1 Environmental Impact Statement (EIS) to evaluate potential passenger rail improvements for the Chicago, Illinois to Omaha, Nebraska regional passenger rail system in compliance with the National Environmental Policy Act of 1969 (NEPA). The Tier 1 EIS will evaluate environmental and related impacts for reasonable corridor-level passenger rail route alternatives between Chicago, Illinois and Omaha, Nebraska. The route alternatives will support proposed conventional locomotive-hauled, passenger train service, operating on track used jointly with freight trains, at an initial maximum speed of seventy-nine (79) to ninety (90) miles per hour (mph). The Tier 1 EIS will also examine passenger rail service levels.

FRA is issuing this Notice to alert interested parties, including the public and resource agencies about the EIS, to provide information on the nature of the proposed action, including the purpose and need for the proposed action, and possible route alternatives to be considered in the preparation of the Tier 1 EIS. To ensure all significant issues are identified and considered, all interested parties are invited to comment on the proposed scope of environmental review. Comments on the scope of the EIS, including the proposed action's purpose and need, the route alternatives to be considered, the impacts to be evaluated, and the methodologies to be used in the evaluations will be accepted online and in writing up to thirty (30) days following the publication of this Notice.

DATES: Iowa DOT will host an online, self-directed public scoping meeting during the months of March and April, 2012. The online public scoping meeting will be available for thirty (30) days following the publication of this Notice. Detailed information on the public scoping meeting is also available on the following Web site: http://www.iowadot.gov/chicagotoomaha. Interested parties, including the public and resource agencies can provide written comments on the Tier 1 EIS up to thirty (30) days following the publication of this Notice, by writing Ms. Tamara Nicholson, Director, Office of Rail Transportation, Iowa Department of Transportation, 800 Lincoln Way, Ames, Iowa 50010.

If a member of the public wishes to participate in the scoping process and does not have access to a computer or the internet, they can request an informational scoping package and comment form by contacting Ms. Tamara Nicholson at the above address or by telephone (515) 239-1052 or (800) 488-7119.

FOR FURTHER INFORMATION CONTACT: Ms. Andrea Martin, Environmental Protection Specialist, Federal Railroad Administration, 1200 New Jersey Avenue Southeast, (Mail Stop 20), Washington, DC 20590, telephone (202) 493-6201; or Ms. Tamara Nicholson, Director, Office of Rail Transportation, Iowa Department of Transportation, 800 Lincoln Way, Ames, Iowa 50010, telephone (515) 239-1052 or (800) 488-7119. Information and documents regarding the environmental review process will be made available for the duration of the Tier 1 EIS process on the following Web site: http://www.iowadot.gov/chicagotoomaha.

SUPPLEMENTARY INFORMATION: The FRA, in cooperation with Iowa DOT, will prepare a Tier 1 EIS to evaluate passenger rail service improvements from Chicago, Illinois to Omaha, Nebraska. The agencies will use a tiered process, as provided for in 40 CFR 1508.28 and in accordance with FRA's Procedures for Considering Environmental Impacts (64 FR 28454) (Environmental Procedures), in the completion of the environmental review. Tiering is a staged environmental review process applied to environmental reviews for complex projects. The proposed Tier 1 EIS described in this Notice is a service level analysis that will examine a range of reasonable corridor route alternatives between Chicago, Illinois and Omaha, Nebraska and will consider improvements necessary to support additional passenger trains while accommodating the anticipated growth in freight rail traffic. The Tier 1 EIS will assess potential track improvements, a potential increase in the number of higher-speed passenger trains, potential corridor route alternatives between Chicago, Illinois and Omaha, Nebraska, and the associated transportation and environmental impacts. It is anticipated that the route alternative analysis will involve a screening process to identify reasonable and feasible alternatives for evaluation in the Tier 1 EIS. Potential route alternatives include the former Illinois Central route, the former Chicago and North Western route, the former Milwaukee Road route, the former Rock Island route, and the former Burlington route. The No-Action (or No-Build) Alternative will also be considered.

The Tier 1 EIS will also appropriately address Section 106 of the National Historic Preservation Act (see 36 CFR part 800), Section 4(f) of the U.S. Department of Transportation Act of 1966 (49 U.S.C. 303) and other applicable Federal and state laws and regulations. The result will be a Tier 1 EIS NEPA document that addresses broad overall issues of concern for corridor decisions including, but not limited to:

• Describing the purpose and need for the proposed action.

• Describing the environment potentially affected by the proposed action.

• Developing evaluation criteria to identify route alternatives that meet the purpose and need of the proposed action and those that do not.

• Identifying the range of reasonable route alternatives that satisfy the purpose and need for the proposed action.

• Developing the no-build alternative to serve as a baseline for comparison.

• Describing and evaluating the potential environmental impacts and mitigation associated with the proposed route alternatives.

• Identifying component projects for Tier 2 NEPA evaluation as described below.

Follow-on Tier 2 assessment(s) will address component projects of the overall rail corridor improvement alternative selected in the Tier 1 EIS, and will incorporate by reference the data and evaluations included in the Tier 1 EIS. The Tier 2 NEPA evaluations will concentrate on the site-specific issues and alternatives relevant to implementing component projects of the selected Tier 1 alternative; and identify the environmental consequences and measures necessary to mitigate environmental impacts at a site-specific level of detail.

Study Area: The Chicago to Omaha corridor extends from Chicago Union Station, in downtown Chicago, Illinois on the east to a terminal in Omaha, Nebraska on the west. The study area consists of the five previously established passenger rail routes between Chicago and Omaha that pass through the states of Illinois and Iowa. Each route is approximately 500 miles long. In Illinois, the study area runs generally west from Chicago Union Station, which is the hub for the Midwest Regional Rail Initiative (MWRRI) to the Mississippi River and, depending on the route, is a distance of between 150 and 250 miles. In Iowa, the study area runs west from the Mississippi River across the entire state to the Missouri River, a distance of approximately 300 miles. The study area terminates in Omaha, which is located at the Missouri River, the eastern border of the state of Nebraska. The location for the terminal in Omaha will be identified as part of the Tier 1 EIS.

The five previously established passenger rail routes are numbered from north to south. For each route, the counties that are traversed in Illinois, Iowa, and Nebraska are listed east to west, as follows:

• Route 1, Illinois Central: Canadian National Railway via Rockford, Illinois, and Dubuque, Waterloo, and Fort Dodge, Iowa through Cook, DuPage, Kane, DeKalb, Boone, Winnebago, Stephenson, and Jo Daviess counties, Illinois; Dubuque, Delaware, Buchanan, Black Hawk, Butler, Franklin, Hardin, Hamilton, Webster, Calhoun, Sac, Crawford, Harrison, and Pottawattamie counties, Iowa; and Douglas County, Nebraska.

• Route 2, Chicago and North Western: Union Pacific Railroad via Clinton, Cedar Rapids, and Ames, Iowa through Cook, DuPage, Kane, DeKalb, Ogle, Lee, and Whiteside counties, Illinois; Clinton, Cedar, Linn, Benton, Tama, Marshall, Story, Boone, Greene, Carroll, Crawford, Harrison, and Pottawattamie counties, Iowa; and Douglas County, Nebraska.

• Route 3, Milwaukee Road: Canadian Pacific Railroad from Chicago to Sabula, Iowa, and Burlington Northern Santa Fe (BNSF) Railway from Bayard, Iowa, to Omaha, and abandoned except for several small stubs in between through Cook, DuPage, Kane, DeKalb, Ogle, and Carroll counties, Illinois; Jackson, Clinton, Jones, Linn, Benton, Tama, Marshall, Story, Boone, Dallas, Guthrie, Carroll, Crawford, Shelby, Harrison, and Pottawattamie counties, Iowa; and Douglas County, Nebraska.

• Route 4, Rock Island: CSX Transportation from Chicago to Utica, Illinois, and Iowa Interstate Railroad via Moline, Illinois, and Iowa City and Des Moines, Iowa through Cook, Will, Grundy, La Salle, Bureau, Henry, and Rock Island counties, Illinois; Scott, Muscatine, Cedar, Johnson, Iowa, Poweshiek, Jasper, Polk, Dallas, Madison, Guthrie, Adair, Cass, Pottawattamie counties, Iowa; and Douglas County, Nebraska.

• Route 5, Burlington: BNSF Railway via Galesburg, Illinois, and Burlington and Ottumwa, Iowa through Cook, DuPage, Kane, Kendall, DeKalb, La Salle, Bureau, Henry, Knox, Warren, and Henderson counties, Illinois; Des Moines, Henry, Jefferson, Wapello, Monroe, Lucas, Clarke, Union, Adams, Montgomery, Mills, and Pottawattamie counties, Iowa; and Douglas County, Nebraska.

Purpose and Need: The Chicago to Omaha Regional Passenger Rail System would provide a competitive passenger rail transportation option between Chicago and Omaha to help meet current and future demand for travel in the study area. The proposed action would create a competitive rail transportation alternative to automobile, bus, and air service and would meet the need for a rail travel option by:

• Decreasing travel times

• Increasing frequency of service

• Improving service reliability

• Providing safe and efficient service

• Providing amenities to improve passenger ride quality and comfort

• Promoting environmental benefits: reduced air pollutant emissions, improved land use options, and fewer adverse impacts to surrounding habitat and water resources

The need for the proposed improvements in the study area stems from travel demand and increasing congestion, resulting from population growth and changing demographics along the corridor from Chicago, Illinois to Omaha, Nebraska as well as the lack of competitive and attractive travel alternatives to highway and air transportation.

Midwest Regional Rail Inititive (MWRRI): The MWRRI is a cooperative, multi-agency effort that began in 1996 and involves nine Midwest states (Indiana, Illinois, Iowa, Michigan, Minnesota, Missouri, Nebraska, Ohio, and Wisconsin) as well as the FRA. MWRRI elements include: Use of 3,000 miles of existing rail right of way to connect rural and urban areas; operation of a hub and spoke passenger rail system; introduction of modern, high-speed trains operating at speeds up to 110 mph; and multi-modal connections to improve system access. The goal of the MWRRI is to develop a passenger rail system that offers business and leisure travelers shorter travel times, additional train frequencies, and connections between urban centers and smaller communities. The proposed EIS will evaluate one aim of the MWRRI “to meet current and future regional travel needs through significant improvements to the level and quality of passenger rail service” (Transportation Economics & Management Systems, Inc., September 2004).

Alternatives to be Considered: The Tier 1 EIS will evaluate preliminary alternatives including a No-Build Alternative and various Build Alternatives. The No-Build Alternative is defined to serve as the baseline for comparison of all alternatives. The No-Build Alternative represents the transportation system as it exists, and as it will exist after completion of programs or projects currently funded or being implemented. The No-Build Alternative will draw upon the State Transportation Improvement Program and existing freight and passenger rail plans.

The Tier 1 EIS will assess environmental and related impacts for a range of reasonable Build Alternatives. The Build Alternatives are corridor-level route alternatives between Chicago, Illinois and Omaha, Nebraska for a conventional locomotive-hauled, passenger train service, operating on track used jointly with freight trains, at an initial maximum speed of seventy-nine (79) to ninety (90) miles per hour (mph), and infrastructure improvements to support the additional passenger trains. Several route alternatives were identified for the Tier 1 EIS based on review of previous studies. In addition, the Tier 1 EIS will consider ideas or concepts that are suggested by resource agencies or the public during the scoping process. Potential route alternatives for the corridor were identified by the MWRRI and the Iowa DOT 10 Year Strategic Passenger-Rail Plan. The previously established primary passenger rail routes are the Illinois Central, Chicago & North Western, Milwaukee Road, Rock Island, and Burlington and are nominally oriented from north to south and east to west. The MWRRI considered these five routes as well as a combination of the Rock Island and Burlington routes to provide a different approach into Chicago, Illinois. Tier 2 component projects will also be identified during the Tier 1 EIS process. Tier 2 project component assessments will incorporate by reference the data and evaluations included in the Tier 1 EIS.

Possible Effects: The FRA and Iowa DOT will evaluate direct, indirect and cumulative changes to the social, economic, and physical environment, including land use and socioeconomic conditions, ecology, water resources, historic and archaeological resources, visual character and aesthetics, contaminated and hazardous materials, transportation, air quality, noise and vibration. Potential for disproportionate and adverse impacts to environmental justice communities will be examined for all alternatives, and accommodations made for limited English proficiency and Title VI requirements. The evaluation will take into account both beneficial and adverse affects and identify measures to avoid, minimize, and mitigate adverse community and environmental impacts. The analysis will be undertaken consistent with NEPA, CEQ regulations, Section 106 of the National Historic Preservation Act, the Endangered Species Act, Clean Air Act, Clean Water Act, FRA's Environmental Procedures, Iowa DOT guidance, and Section 4(f) of the Department of Transportation Act of 1966, along with other applicable Federal and state regulations.

Scoping Process: The FRA and Iowa DOT are inviting comments and suggestions regarding the scope of the Tier 1 EIS from all interested parties, to ensure that all issues are addressed related to this proposal and any significant impacts are identified. Comments or questions concerning the proposed action and the Tier 1 EIS should be directed to the Iowa DOT at the address above. Letters describing the proposed action and soliciting comments will be sent to the appropriate Federal, State and local agencies, Native American tribes and to private organizations who might have previously expressed or who are known to have an interest in this proposal. Federal agencies with jurisdiction by law or special expertise with respect to potential environmental issues will be requested to act as a Cooperating Agency in accordance with 40 CFR 1501.6.

Iowa DOT will lead the outreach activities, beginning with the online scoping meeting described above in DATES. Public involvement initiatives, including public meetings, newsletters, and outreach will be held throughout the course of this study. Opportunities for public participation will be announced through mailings, notices, advertisements, press releases and a project Web site: http://www.iowadot.gov/chicagotoomaha.

Issued in Washington, DC, on March 12, 2012.
Paul Nissenbaum,
Associate Administrator for Railroad Policy and Development, Federal Railroad Administration.

[FR Doc. 2012-6304 Filed 3-14-12; 8:45 am]

BILLING CODE 4910-06-P